DEPARTMENT OF THE INTERIOR

Minerals Management Service

[Docket No. MMS-2008-OMM-0042]

MMS Information Collection Activity: 1010-0128, Subpart O, Well Control and Production Safety Training, Extension of a Collection; Submitted for Office of Management and Budget (OMB) Review; Comment Request

AGENCY: Minerals Management Service (MMS), Interior.

ACTION: Notice of extension of an information collection (1010-0128).

SUMMARY: To comply with the Paperwork Reduction Act of 1995 (PRA), we are notifying the public that we have submitted to OMB an information collection request (ICR) to renew approval of the paperwork requirements in the regulations under 30 CFR 250, Subpart O, Well Control and Production Safety Training, and related documents. This notice also provides the public a second opportunity to comment on the paperwork burden of these regulatory requirements.

DATES: Submit written comments by September 2, 2009.

ADDRESSES: You should submit comments directly to the Office of Information and Regulatory Affairs, OMB, Attention: Desk Officer for the Department of the Interior (1010-0128), either by fax (202) 395-5806 or e-mail (OIRA_DOCKET@omb.eop.gov).

Please also send a copy to MMS by either of the following methods:

• http://www.regulations.gov. Under the tab More Search Options, click Advanced Docket Search, then select Minerals Management Service from the agency drop-down menu, then click submit. In the Docket ID column, select MMS-2008-OMM-0042 to submit public comments and to view supporting and related materials. Information on using Regulations.gov, including instructions for accessing documents, submitting comments, and viewing the docket after the close of the comment period, is available through the site's User Tips link. Submit comments to regulations.gov by September 2, 2009. The MMS will post all comments.

• Mail or hand-carry comments to the Department of the Interior; Minerals Management Service; Attention: Cheryl Blundon; 381 Elden Street, MS-4024; Herndon, Virginia 20170-4817. Please reference Information Collection 1010-0128 in your subject line and include your name and address.

FOR FURTHER INFORMATION CONTACT: Cheryl Blundon, Regulations and Standards Branch, (703) 787-1607. You may also contact Cheryl Blundon to obtain a copy, at no cost, of the regulation that requires the subject collection of information.

SUPPLEMENTARY INFORMATION: Title: 30 CFR 250, Subpart O, Well Control and Production Safety Training.

OMB Control Number: 1010-0128.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease, right-of-use and easement, and pipeline right-of-way. Operations in the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) of the OCS Lands Act requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” To carry out these responsibilities, the Minerals Management Service (MMS) has issued rules governing training requirements for certain personnel working in the OCS at 30 CFR 250, Subpart O, Well Control and Production Safety Training. Responses are mandatory or required to obtain or retain a benefit and are primarily on occasion. No questions of a sensitive nature are asked. The MMS protects information considered proprietary according to 30 CFR 250.197, Data and information to be made available to the public or for limited inspection, and 30 CFR Part 252, Outer Continental Shelf (OCS) Oil and Gas Information Program.

The MMS will use the information collected under subpart O regulations to ensure that workers in the OCS are properly trained with the necessary skills to perform their jobs in a safe and pollution-free manner. In some instances, MMS will conduct oral interviews of offshore employees to evaluate the effectiveness of a company's training program. We do the oral interviews to gauge how effectively the companies are implementing their own training program. The MMS would use the interview form and keep the information internally. This information is necessary to verify training compliance with the requirements.

Frequency: On occasion or annual.

Estimated Number and Description of Respondents: Approximately 130 Federal OCS oil and gas lessees and/or operators.

Estimated Reporting and Recordkeeping Hour Burden: The estimated annual hour burden for this information collection is a total of 1,144 hours. The following chart details the individual components and estimated hour burdens. In calculating the burdens, we assumed that respondents perform certain requirements in the normal course of their activities. We consider these to be usual and customary and took that into account in estimating the burden.

Citation 30, CFR 250, Subpart O | Reporting and recordkeeping requirement | Hour burden | Average Number of annual responses | Annual burden hours
1503(b) | Develop training plans. Note: Existing lessees/respondents already have training plans developed. This number reflects development of plans for any new lessees | 70 | 2 | 140
1503(c) | Maintain copies of training plan and employee training documentation/record for 5 years | 1½ hr. (plan) | 130 | 195
|  | 2 hrs. for records |  | 260
1503(c) | Upon request, provide MMS copies of employee training documentation or provide copy of training plan | 5 | 31 | 155
1507(b) | Employee oral interview conducted by MMS | ½ hr | 650 | 325
1507(c), (d); 1508; 1509 | Written testing conducted by MMS or authorized representative | Not considered information collection under 5 CFR 1320.3(h)(7) |  | 0
1510(b) | Revise training plan and submit to MMS | 12 | 5 | 60
250.1500-1510 | General departure or alternative compliance requests not specifically covered elsewhere in subpart O | 3 | 3 | 9
Total Hour Burden |  |  | 821 | 1,144

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on May 1, 2009, we published a Federal Register notice (74 FR 20330) announcing that we would submit this ICR to OMB for approval. The notice provided the required 60-day comment period. In addition, § 250.199 provides the OMB control number for the information collection requirements imposed by the 30 CFR 250 regulations. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by September 2, 2009.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: July 15, 2009.
E.P. Danenberger,
Chief, Office of Offshore Regulatory Programs.

[FR Doc. E9-18418 Filed 7-31-09; 8:45 am]

BILLING CODE 4310-MR-P